COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List commodities and services to be furnished by nonprofit agencies employing persons who are blind or have other severe disabilities.

EFFECTIVE DATE: October 10, 2000.

ADDRESS: Committee for Purchase From People Who Are Blind or Severely Disabled, Jefferson Plaza 2, Suite 10800, 1421 Jefferson Davis Highway, Arlington, Virginia 22202-3259.

FOR FURTHER INFORMATION CONTACT: Louis R. Bartalot (703) 603-7740

SUPPLEMENTARY INFORMATION: On March 17 and July 21, 2000, the Committee for Purchase From People Who Are Blind or Severely Disabled published notices (65 FR 14532 and 45358) of proposed additions to the Procurement List.

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

Paper Shredder

75201241 (Strip Cut)

75201242 (Cross Cut)

75201419 (Strip Cut)

75201420 (Cross Cut)

Bag, T-Shirt Style

8105-00-NIB-1023

(Requirements for DeCA Region Northeast)

Services

Grounds Maintenance, Marine Corps Recruit Depot, San Diego, California

Janitorial/Custodial, New Executive Office Building, Jackson Place Townhouses, Winder Building and 1724 F Street, Washington, DC

Janitorial/Custodial, U.S. Fish & Wildlife Service, Great Swamp National Wildlife Refuge, Basking Ridge, New Jersey

Mailing Services, NASA Goddard Space Flight Center, Greenbelt, Maryland

This action does not affect current contracts awarded prior to the effective date of this addition or options that may be exercised under those contracts.

Louis R. Bartalot,
Deputy Director (Operations).

[FR Doc. 00-23141 Filed 9-7-00; 8:45 am]

BILLING CODE 6353-01-P